DEPARTMENT OF EDUCATION

Discretionary Grant Programs

AGENCY: Department of Education.

ACTION: Notice announcing additional requirement for applicants and grantees.

SUMMARY: The Department of Education announces an additional requirement affecting applicants and grantees. We are taking this action to conform our requirements with final guidance issued by the Office of Management and Budget (OMB) on September 14, 2010 (Financial Assistance Use of Universal Identifier and Central Contractor Registration). The new guidance affects an applicant's or grantee's registration of its Dun and Bradstreet Data Universal Numbering System (DUNS) Number and its Taxpayer Identification Number (TIN) with the Central Contractor Registration (CCR) database.

FOR FURTHER INFORMATION CONTACT: Greg Vick, U.S. Department of Education, 400 Maryland Avenue, SW., Washington, DC 20202-0170. Telephone: (202) 245-6147 or by e-mail: gregory.vick@ed.gov.

SUPPLEMENTARY INFORMATION: In each notice inviting applications for grant awards, we include requirements governing an applicant's DUNS Number and TIN and specify that to do business with the Department, an applicant must register those numbers with the CCR, the Government's primary registrant database.

In its final guidance issued under 2 CFR Part 25 and published in the Federal Register on September 14, 2010 (75 FR 55671), OMB added a requirement that an entity doing business with the Department must maintain an active CCR registration with current information while its application is under review and, if it is awarded a grant, during the project period.

The final guidance took effect on October 1, 2010, which made it applicable to every grant competition with an application deadline date on or after October 1, 2010. However, on or before the effective date, we had published a number of notices inviting applications that had application deadline dates on or after October 1, 2010, but that did not include the new requirement with regard to maintaining an active CCR registration.

This notice serves to inform applicants and potential applicants under those affected competitions that the new requirement applies to them, and each such potential applicant must, therefore, maintain an active CCR registration during the time its application is under review and, if funded, during the project period. However, this requirement does not affect the submission of their applications and does not require any applicant to amend, withdraw, or resubmit its application.

The affected competitions and the publication date in the Federal Register of each notice inviting applications are shown below in order of Catalog of Federal Domestic Assistance (CFDA) Number. Questions about the applicability of this notice to any application submitted under these programs should be directed to the program contact identified for each program.

CFDA No. 84.019A—Office of Postsecondary Education; Overview Information; Fulbright-Hays Faculty Research Abroad Fellowship Program; Notice Inviting Applications for New Awards for Fiscal Year (FY) 2011. Published October 1, 2010 (75 FR 60740). Program contact: Cynthia Dudzinski, 202-502-7589.

CFDA No. 84.021A—Office of Postsecondary Education; Overview Information; Fulbright-Hays Group Projects Abroad Program; Notice Inviting Applications for New Awards for Fiscal Year (FY) 2011. Published September 24, 2010 (75 FR 59051). Program contact: Michelle Guilfoil, 202-502-7625.

CFDA No. 84.022A—Office of Postsecondary Education; Overview Information; Fulbright-Hays Doctoral Dissertation Research Abroad (DDRA) Fellowship Program; Notice Inviting Applications for New Awards for Fiscal Year (FY) 2011. Published September 17, 2010 (75 FR 57000). Program contact: Amy Wilson, 202-502-7689.

CFDA No. 84.327J—Office of Special Education and Rehabilitative Services; Overview Information; Technology and Media Services for Individuals with Disabilities—Video Description Research and Development Center; Notice Inviting Applications for New Awards for Fiscal Year (FY) 2011. Published August 12, 2010 (75 FR 48957). Program contact: Jo Ann McCann, 202-245-7434.

CFDA No. 84.327W—Office of Special Education and Rehabilitative Services; Overview Information; Technology and Media Services for Individuals with Disabilities—The Accessible Instructional Materials (AIM) Personnel Development Center; Notice Inviting Applications for New Awards for Fiscal Year (FY) 2011. Published September 28, 2010 (75 FR 59699). Program contact: Glinda Hill, 202-245-7376.

CFDA No. 84.330B—Office of Elementary and Secondary Education; Overview Information; Advanced Placement (AP) Test Fee Program; Notice Inviting Applications for New Awards for Fiscal Year (FY) 2011. Published September 1, 2010 (75 FR 53681). Program contact: Francisco Ramirez, 202-260-1541.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: November 23, 2010.
Thomas P. Skelly,
Delegated Authority to Perform the Functions of the Chief Financial Officer.

[FR Doc. 2010-29990 Filed 11-26-10; 8:45 am]

BILLING CODE 4000-01-P